DEPARTMENT OF THE INTERIOR

Bureau of Land Management

[71% to CO-956-1420-BJ-0000-241A; 7½% to CO-956-1910-BJ-4717-241A; 7½% to CO-956-7130-BJ-7382-241A; 14% to CO-956-9820-BJ-CO01-241A]

Colorado: Filing of Plats of Survey

October 1, 2003.

SUMMARY: The plats of survey of the following described land will be officially filed in the Colorado State Office, Bureau of Land Management, Lakewood, Colorado, effective 10:00 am., October 1, 2003. All inquiries should be sent to the Colorado State Office, Bureau of Land Management, 2850 Youngfield Street, Lakewood, Colorado 80215-7093.

The plat, amending the longitude for the corner of sections 15, 16, 21 and 22, in Township 14 South, Range 68 West, Sixth Principal Meridian, Group 750, Colorado, was accepted July 21, 2003.

The plat representing the dependent resurvey and survey of Amended Tract 147, in Township 1 South, Range 71 West, Sixth Principal Meridian, Group 1364, Colorado, was accepted July 28, 2003.

The plat representing the dependent resurvey and survey, in Township 11 North, Range 101 West, Sixth Principal Meridian, Group 1389, Colorado, was accepted August 5, 2003.

The plat representing the dependent resurvey and survey in Section 23, of Township 2 South, Range 103 West, Sixth Principal Meridian, Group 1377, Colorado, was accepted August 18, 2003.

The plat, (in 7 sheets), representing the dependent resurveys and surveys in Section 24, of Township 1 North, Range 72 West, Sixth Principal Meridian, Group 1236, Colorado, was accepted August 20, 2003.

The plat, (in 8 sheets), representing the dependent resurveys and surveys in Section 13, of Township 1 North, Range 72 West, Sixth Principal Meridian, Group 1236, Colorado, was accepted September 17, 2003.

The plat representing the dependent resurvey and survey in Township 8 South, Range 97 East, Sixth Principal Meridian, Group 1278, Colorado, was accepted September 25, 2003.

The plat representing the dependent resurvey and survey in Township 8 South, Range 98 West, Sixth Principal Meridian, Group 1278, Colorado, was accepted September 25, 2003.

The plat representing the dependent resurvey and survey in Township 9 South, Range 97 East, Sixth Principal Meridian, Group 1278, Colorado, was accepted September 25, 2003.

The plat representing the dependent resurvey and survey in Township 9 South, Range 98 West, Sixth Principal Meridian, Group 1278, Colorado, was accepted September 25, 2003.

These surveys and plats were requested by the Bureau of Land Management for administrative and management purposes.

The plat, of the entire record, representing the dependent resurvey, in Township 22 South, Range 73 West, Sixth Principal Meridian, Group 1235, Colorado, was accepted August 28, 2003.

The plat, (in 2 sheets), of the entire record, representing the dependent resurvey, in Township 23 South, Range 73 West, Sixth Principal Meridian, Group 1235, Colorado, was accepted August 28, 2003.

These surveys, and plats were requested by the Forest Supervisor, Pike and San Isabel National Forests, to identify forest boundaries for administrative and management purposes.

The plat representing the dependent resurvey and survey in Township 3 South, Range 74 West, Sixth Principal Meridian, Group 1351, Colorado, was accepted September 24, 2003.

This survey and plat was requested by the Forest Supervisor, Arapaho-Roosevelt National Forests, to identify the forest boundaries for management purposes and to prevent a possible home improvement trespass.

The plat representing the dependent resurvey and surveys in Township 34 North, Range 14 West, North of the Ute Line, New Mexico Principal Meridian, Group 1394, Colorado, was accepted September 25, 2003.

This survey and plat was requested by the National Park Service, Superintendent, Mesa Verde National Park, to identify the National Park boundaries for management purposes.

Darryl A. Wilson,
Chief Cadastral Surveyor for Colorado.

[FR Doc. 03-25763 Filed 10-9-03; 8:45 am]

BILLING CODE 4310-JB-P